DEPARTMENT OF COMMERCE

International Trade Administration

[A-533-891, A-580-904]

Forged Steel Fittings From India and the Republic of Korea: Postponement of Preliminary Determinations in the Less-Than-Fair-Value Investigations

AGENCY: Enforcement and Compliance, International Trade Administration, Department of Commerce.

DATES: Applicable February 28, 2020.

FOR FURTHER INFORMATION CONTACT: Caitlin Monks at (202) 482-2670, AD/CVD Operations, Office VII, Enforcement and Compliance, International Trade Administration, U.S. Department of Commerce, 1401 Constitution Avenue NW, Washington, DC 20230.

SUPPLEMENTARY INFORMATION:

Background

On November 12, 2019, the Department of Commerce (Commerce) initiated less-than-fair-value (LTFV) investigations of imports of forged steel fittings from India and the Republic of Korea.¹ Currently, the preliminary determinations are due no later than March 31, 2020.

¹ See Forged Steel Fittings from India and the Republic of Korea: Initiation of Less-Than-Fair-Value Investigations, 84 FR 64265 (November 21, 2019).

Postponement of Preliminary Determinations

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On February 5, 2020, the petitioners ² submitted timely requests that Commerce postpone the preliminary determinations in these LTFV investigations.³ The petitioners request postponement because “based on the complexity of the process for selecting mandatory respondents in this investigation, Commerce will not have complete questionnaire responses and sufficient information to issue preliminary determinations if the deadlines are not extended.” ⁴

² The petitioners are Bonney Forge Corporation and the United Steel, Paper and Forestry, Rubber Manufacturing, Energy, Allied Industrial and Service Workers International Union (USW).

³ See Petitioner's Letters, “Forged Steel Fittings from India: Request for Extension of Preliminary Determination,” and “Forged Steel Fittings from Korea: Request for Extension of Preliminary Determination,” both dated February 5, 2020.

⁴ Id.

For the reasons stated above and because there are no compelling reasons to deny the request, Commerce, in accordance with section 733(c)(1)(A) of the Act, is postponing the deadline for the preliminary determinations by 50 days (i.e., 190 days after the date on which these investigations were initiated). As a result, Commerce will issue its preliminary determinations no later than May 20, 2020. In accordance with section 735(a)(1) of the Act and 19 CFR 351.210(b)(1), the deadline for the final determinations of these investigations will continue to be 75 days after the date of the preliminary determinations, unless postponed at a later date.

Notification to Interested Parties

This notice is issued and published pursuant to section 733(c)(2) of the Act and 19 CFR 351.205(f)(1).

Dated: February 25, 2020.
Jeffrey I. Kessler,
Assistant Secretary for Enforcement and Compliance.

[FR Doc. 2020-04122 Filed 2-27-20; 8:45 am]

BILLING CODE 3510-DS-P